DEPARTMENT OF AGRICULTURE

[Docket ID: FSA-2021-0011]

Information Collection Request; Request for Geospatial Products and Services

AGENCY: Farm Production and Conservation Business Center, USDA.

ACTION: Notice; request for comments.

SUMMARY: In accordance with the Paperwork Reduction Act of 1995, the Farm Production and Conservation (FPAC) Business Center (BC) is requesting comments from all interested individuals and organizations on a revision and an extension of a currently approved information collection associated with Request for Geospatial Products and Service under the FPAC Geospatial Enterprise Operations (GEO) Program (formerly FSA Aerial Photography Program). The FPAC Geospatial Enterprise Operations (GEO) uses the information from the forms to collect the customer and product information needed to produce and ship the various geospatial and photographic products ordered.

DATES: We will consider comments that we receive by November 22, 2021.

ADDRESSES: We invite you to submit comments on this notice. You may submit comments by any of the following methods:

• Federal eRulemaking Portal: Go to http://www.regulations.gov www.regulations.gov and search for Docket ID FSA-2021-0011. Follow the online instructions for submitting comments.

• Mail: David Parry, Lead Aerial Imagery Specialist, USDA, Farm Production and Conservation, GEO Customer Services, 125 South State Street, Suite 6416, Salt Lake City, Utah 84138-1102. In your comment, specify the docket ID FSA-2021-0011.

You may also send comments to the Desk Officer for Agriculture, Office of Information and Regulatory Affairs, Office of Management and Budget, Washington, DC 20503. Copies of the information collection may be requested by contacting David Parry at the above address.

FOR FURTHER INFORMATION CONTACT: David Parry, (801) 844-2923; email: david.parry@usda.gov. Persons with disabilities who require alternative mean for communication should contact the USDA's TARGET Center at (202) 720-2600 (Voice).

SUPPLEMENTARY INFORMATION: Title: Request for Geospatial Products and Services.

OMB Control Number: 0560-0176.

Expiration Date: December 31, 2021.

Type of Request: Extension with a revision.

Abstract: The information collection is needed to enable the Department of Agriculture to effectively administrate the Geospatial and Aerial Photography Programs. GEO has the responsibility for acquiring and conducting coordination of the FPAC's geospatial datasets and the aerial photography flying contracts and remote sensing programs. The geospatial data and digital aerial imagery secured by FPAC BC is public domain and reproductions are available at cost to any customer with a need. All receipts from the sale of geospatial products and services are retained by FPAC BC. The FPAC-ISD-441, Request for Geospatial Products and Services, is the form FPAC supplies to the customers for placing an order for aerial imagery products and services. The burden hours have increased because of the additional form FPAC-ISD-441D One Time Credit Card Payment Authorization form requesting credit card information.

For the following estimated total annual burden on respondents, the formula used to calculate the total burden hour is the estimated average time per responses hours multiplied by the estimated total annual responses.

Estimate of Burden: Public reporting burden for the information collection is estimated to average 16 minutes per response.

Type of Respondents: Farmers, Ranchers and other customers who wish to purchase imagery products and services.

Estimated Number of Respondents: 2,477.

Estimated Annual Number of Responses per Respondent: 1.

Estimated Total Annual Responses. 2,477.

Estimated Average Time per Response: 0.219.

Estimated Total Annual Burden Hours on Respondents: 542 hours.

We are requesting comments on all aspects of this information collection to help us to:

(1) Evaluate whether the collection of information is necessary for the proper performance of the functions of FPAC, including whether the information will have practical utility;

(2) Evaluate the accuracy of FPAC's estimate of the burden of the collection of information including the validity of the methodology and assumptions used;

(3) Evaluate the quality, utility, and clarity of the information technology; and

(4) Minimize the burden of the collection of information on those who are respond, including through the use of appropriate automated, electronic, mechanical, or other technological collection techniques or other forms of information technology.

All comments received in response to this notice, including names and addresses where provided, will be made a matter of public record. Comments will be summarized and included in the request for OMB approval of the information collection.

Robert Ibarra,
Acting Executive Vice President, Commodity Credit Corporation.

[FR Doc. 2021-20609 Filed 9-22-21; 8:45 am]

BILLING CODE 3410-05-P